DEPARTMENT OF ENERGY

Federal Energy Regulatory Commission

[Project No. 13239-001]

Parker Knoll Hydro, LLC; Notice of Intent To File License Application, Filing of Pre-Application Document, and Approving Use of the Traditional Licensing Process

February 11, 2009.

a. Type of Filing: Notice of Intent to File License Application and Request to Use the Traditional Licensing Process.

b. Project No.: 13239-001.

c. Date Filed: December 30, 2008.

d. Submitted by: Parker Knoll Hydro, LLC.

e. Name of Project: Parker Knoll Pumped Storage Hydroelectric Project.

f. Location: The project would be located in Grass Valley and on the western slope of Parker Mountain near Richfield, Piute County, Utah.

g. Filed Pursuant to: 18 CFR 5.3 of the Commission's Regulations.

h. Potential Applicant Contact: Brent L. Smith, Chief Operations Officer, Symbiotics, LLC, P.O. Box 535, Rigby, ID 83442; (208) 745-0834; e-mail—brent.smith@symbioticsenergy.com.

i. FERC Contact: Aaron Liberty, (202) 502-6862 or by e-mail at aaron.liberty@ferc.gov.

j. Parker Knoll Hydro filed its request to use the Traditional Licensing Process on December 30, 2008. Parker Knoll Hydro filed public notice of its request on January 8, 2009. In a letter dated February 10, 2009, the Director of the Office of Energy Projects approved Parker Knoll Hydro's request to use the Traditional Licensing Process.

k. With this notice, we are initiating informal consultation with: (a) The U.S. Fish and Wildlife Service and/or NOAA Fisheries under section 7 of the Endangered Species Act and the joint agency regulations thereunder at 50 CFR Part 402; and (b) the Utah State Historic Preservation Officer, as required by section 106, National Historical Preservation Act, and the implementing regulations of the Advisory Council on Historic Preservation at 36 CFR 800.2.

l. With this notice, we are designating Parker Knoll Hydro as the Commission's non-federal representative for carrying out informal consultation, pursuant to Section 7 of the Endangered Species Act and Section 106 of the National Historic Preservation Act.

m. Parker Knoll Hydro filed a Pre-Application Document (PAD; including a proposed process plan and schedule) with the Commission, pursuant to 18 CFR 5.6 of the Commission's Regulations.

n. A copy of the PAD is available for review at the Commission in the Public Reference Room or may be viewed on the Commission's Web site (http://www.ferc.gov), using the “eLibrary” link. Enter the docket number, excluding the last three digits, in the docket number field to access the document. For assistance, contact FERC Online Support at FERCONlineSupport@ferc.gov, or toll-free at 1-866-208-3676, or for TTY, (202) 502-8659. A copy is also available for inspection and reproduction at the address in paragraph h.

o. Register online at http://ferc.gov/esubscribenow.htm to be notified via email of new filings and issuances related to this or other pending projects. For assistance, contact FERC Online Support.

Kimberly D. Bose,
Secretary.

[FR Doc. E9-3453 Filed 2-18-09; 8:45 am]

BILLING CODE 6717-01-P